DEPARTMENT OF COMMERCE

International Trade Administration

[A-580-916]

Brass Rod From the Republic of Korea: Final Affirmative Determination of Sales at Less Than Fair Value

AGENCY: Enforcement and Compliance, International Trade Administration, Department of Commerce.

SUMMARY: The U.S. Department of Commerce (Commerce) determines that brass rod from the Republic of Korea (Korea) is being, or is likely to be, sold in the United States at less than fair value (LTFV) for the period of investigation (POI) April 1, 2022, through March 31, 2023.

DATES: Applicable April 22, 2024.

FOR FURTHER INFORMATION CONTACT: Krisha Hill or Drew Jackson, AD/CVD Operations, Office IV, Enforcement and Compliance, International Trade Administration, U.S. Department of Commerce, 1401 Constitution Avenue NW, Washington, DC 20230; telephone: (202) 482-4037 or (202) 482-4406, respectively.

SUPPLEMENTARY INFORMATION:

Background

On December 1, 2023, Commerce published in the Federal Register its preliminary affirmative determination in the LTFV investigation of brass rod from Korea, in which it also postponed the final determination until April 15, 2023.¹ We invited interested parties to comment on the Preliminary Determination.

¹ See Brass Rod from the Republic of Korea: Preliminary Affirmative Determination of Sales at Less Than Fair Value, Postponement of Final Determination, and Extension of Provisional Measures, 88 FR 83915 (December 1, 2023) (Preliminary Determination), and accompanying Preliminary Decision Memorandum (PDM) (Postponing the final determination to 135 days after the publication of the Preliminary Determination would place the deadline on Sunday April 14, 2024. Pursuant to the “Next Business Day” rule, where a deadline falls on a weekend or federal holiday, the appropriate deadline is the next business day. See Notice of Clarification: Application of “Next Business Day” Rule for Administrative Determination Deadlines Pursuant to the Tariff Act of 1930, As Amended, 70 FR 24533 (May 10, 2005)).

A summary of the events that occurred since Commerce published the Preliminary Determination, as well as a full discussion of the issues raised by parties for this final determination may be found in the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

² See Memorandum, “Decision Memorandum for the Final Affirmative Determination of Sales at Less-Than-Fair-Value in the Investigation of Brass Rod from the Republic of Korea,” dated concurrently with, and hereby adopted by, this notice (Issues and Decision Memorandum).

Scope of the Investigation

The product covered by this investigation is brass rod from Korea. For a complete description of the scope of this investigation, see Appendix I.

Scope Comments

During this investigation, Commerce received scope comments from parties. Commerce issued a Preliminary Scope Decision Memorandum to address these comments and set aside a period of time for parties to address scope issues in scope-specific case and rebuttal briefs.³ We did not receive timely comments from any interested parties on the Preliminary Scope Memorandum. Thus, we did not make any changes to the scope of the investigation from the scope published in the Preliminary Determination, as noted in Appendix I.

³ See Memorandum, “Preliminary Scope Decision Memorandum,” dated September 25, 2023 (Preliminary Scope Decision Memorandum).

Verification

Commerce verified the sales and cost information submitted by Booyoung Industry (BYI) and Daechang Co., Ltd. (Daechang) ⁴ for use in our final determination, consistent with section 782(i) of the Tariff Act of 1930, as amended (the Act). We used standard verification procedures, including an examination of relevant sales and accounting records, and original source documents provided by BYI and Daechang.⁵

⁴ Commerce has treated Daechang Co., Ltd., Seowon Co. Ltd., and IMI Co. Ltd. as single entity in this investigation.

⁵ See Memorandum, “Verification of the Sales Response of Booyoung Industry in the Antidumping Duty Investigation of Brass Rod from the Republic of Korea,” dated February 27, 2024; Memorandum, “Verification of the Cost Response of Booyoung Industry (BYI) in the Less-Than-Fair-Value Investigation of Brass Rod from Korea,” dated February 28, 2024; Memorandum, “Verification of the Cost Response of Daechang Co., Ltd. in the Less-Than-Fair-Value Investigation of Certain Brass Rod from the Republic of Korea,” dated February 8, 2024; Memorandum, “Verification of the Sales Response of Daechang Co., Ltd.'s U.S. Affiliate, Daechang Lloyds Inc., in the Antidumping Investigation of Brass Rod from the Republic of Korea,” dated February 27, 2024; and Memorandum, “Verification of the Sales Response of Daechang Co. Ltd. in the Antidumping Investigation of Brass Rod from the Republic of Korea,” dated February 27, 2024.

Analysis of Comments Received

All issues raised in the case and rebuttal briefs by interested parties in this investigation are addressed in the Issues and Decision Memorandum. A list of the issues raised is attached to this notice as Appendix II.

Changes Since the Preliminary Determination

We made certain changes to the margin calculation for BYI and Daechang since the Preliminary Determination. For a discussion of these changes, see the Issues and Decision Memorandum.

All-Others Rate

Section 735(c)(5)(A) of the Act provides that the estimated weighted-average dumping margin for all other producers and exporters not individually investigated shall be equal to the weighted average of the estimated weighted-average dumping margins established for individually investigated exporters and producers, excluding rates that are zero, de minimis, or determined entirely under section 776 of the Act, i.e., facts otherwise available.

In this investigation, Commerce calculated estimated weighted-average dumping margins that are above de minimis for the mandatory respondents, BYI and Daechang. Commerce calculated the all-others rate by weight-averaging the estimated weighted-average dumping margins that it calculated for the individually examined respondents. Commerce weight-averaged these dumping margins using the publicly ranged total quantities of each respondent's sales of subject merchandise to the United States during the POI.⁶

⁶ With two respondents under examination, Commerce normally calculates: (A) a weighted-average of the estimated weighted-average dumping margins calculated for the examined respondents; (B) a simple average of the estimated weighted-average dumping margins calculated for the examined respondents; and (C) a weighted-average of the estimated weighted-average dumping margins calculated for the examined respondents using each company's publicly ranged U.S. sale quantities for the merchandise under consideration. Commerce then compares (B) and (C) to (A) and selects the rate closer to (A) as the most appropriate rate for all other producers and exporters. See Ball Bearings and Parts Thereof from France, Germany, Italy, Japan, and the United Kingdom: Final Results of Antidumping Duty Administrative Reviews, Final Results of Changed-Circumstances Review, and Revocation of an Order in Part, 75 FR 53661, 53663 (September 1, 2010), and accompanying Issues and Decision Memorandum at Comment 1; see also Memorandum, “All-Others Rate Calculation,” dated concurrently with this notice.

Final Determination

Commerce determines that the following estimated weighted-average dumping margins exist:

⁷ IMI Co. Ltd. is referred to as “Affiliate A” in Daechang's response and the Preliminary Determination. Daechang has consented to the public disclosure of IMI Co. Ltd.'s identity. See Daechang's Letter, “Response to the Department's December 12th Letter Concerning Business Proprietary Treatment of Certain Information,” dated December 15, 2023 (“Nevertheless, in order to avoid the potential adverse consequences associated with the Department's treatment of certain factual submissions as “non-conforming”— notwithstanding the safeguards afforded to Daechang under 19 CFR 351.105(c)—Daechang, under protest, consents to treat Affiliate A's {i.e., IMI Co. Ltd.} identity as public information.”).

Exporter/producer | Weighted-average dumping margin (percent) | Cash deposit rate (adjusted for subsidy offset(s) (percent)
Booyoung Industry | 9.18 | 7.45
Daechang Co., Ltd./Seowon Co. Ltd./IMI Co. Ltd.⁷ | 8.26 | 8.04
All Others | 8.48 | 7.90

Disclosure

Commerce intends to disclose the calculations performed in connection with this final determination within five days of any public announcement or, if there is no public announcement, within five days of the date of publication of this notice, in accordance with 19 CFR 351.224(b).

Suspension of Liquidation

In accordance with section 733(d)(2) of the Act, Commerce will direct U.S. Customs and Border Protection (CBP) to suspend liquidation of all entries of brass rod from Korea as described in the appendix, entered, or withdrawn from warehouse, for consumption on or after the date of publication of this notice in the Federal Register.

Further, pursuant to section 733(d)(1)(B) of the Act and 19 CFR 351.205(d), Commerce will instruct CBP to require a cash deposit equal to the estimated weighted-average dumping margin or the estimated all-others rate, as follows: (1) the cash deposit rate for the respondents listed in the table above is the company-specific cash deposit rate listed for the respondent in the table; (2) if the exporter is not a respondent identified in the table above, but the producer is, then the cash deposit rate will be equal to the company-specific estimated weighted-average dumping margin established for that producer of the subject merchandise; and (3) the cash deposit rate for all other producers and exporters will be equal to the all-others estimated weighted-average dumping margin.

U.S. International Trade Commission Notification

In accordance with section 735(d) of the Act, we will notify the U.S. International Trade Commission (ITC) of this final affirmative determination of sales at LTFV. Because Commerce's final determination is affirmative, in accordance with section 735(b)(2) of the Act, the ITC will make its final determination as to whether the domestic industry in the United States is materially injured, or threatened with material injury, by reason of imports or sales (or the likelihood of sales) for importation of brass rod no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Continuation of Suspension of Liquidation” section above.

Administrative Protective Order

This notice serves as the only reminder to parties subject to an administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This final determination and this notice are issued and published pursuant to sections 735(d) and 777(i) of the Act, and 19 CFR 351.210(c).

Dated: April 15, 2024.
Ryan Majerus,
Deputy Assistant Secretary for Policy and Negotiations, performing the non-exclusive functions and duties of the Assistant Secretary for Enforcement and Compliance.

Appendix I

Scope of the Investigation

The products covered by this investigation are brass rod and bar (brass rod), which is defined as leaded, low-lead, and no-lead solid brass made from alloys such as, but not limited to the following alloys classified under the Unified Numbering System (UNS) as C27450, C27451, C27460, C34500, C35000, C35300, C35330, C36000, C36300, C37000, C37700, C48500, C67300, C67600, and C69300, and their international equivalents.

The brass rod subject to this investigation has an actual cross-section or outside diameter greater than 0.25 inches but less than or equal to 12 inches. Brass rod cross-sections may be round, hexagonal, square, or octagonal shapes as well as special profiles (e.g., angles, shapes), including hollow profiles.

Standard leaded brass rod covered by the scope contains, by weight, 57.0-65.0 percent copper; 0.5-3.0 percent lead; no more than 1.3 percent iron; and at least 15 percent zinc. No-lead or low-lead brass rod covered by the scope contains by weight 59.0-76.0 percent copper; 0-1.5 percent lead; no more than 0.35 percent iron; and at least 15 percent zinc. Brass rod may also include other chemical elements (e.g., nickel, phosphorous, silicon, tin, etc.).

Brass rod may be in straight lengths or coils. Brass rod covered by these investigations may be finished or unfinished, and may or may not be heated, extruded, pickled, or cold-drawn. Brass rod may be produced in accordance with ASTM B16, ASTM B124, ASTM B981, ASTM B371, ASTM B453, ASTM B21, ASTM B138, and ASTM B927, but such conformity to an ASTM standard is not required for the merchandise to be included within the scope.

Excluded from the scope of this investigation is brass ingot, which is a casting of unwrought metal unsuitable for conversion into brass rod without remelting, that contains, by weight, at least 57.0 percent copper and 15.0 percent zinc.

The merchandise covered by this investigation is currently classifiable under subheadings 7407.21.9000, 7407.21.7000, and 7407.21.1500 of the Harmonized Tariff Schedule of the United States (HTSUS). Products subject to the scope may also enter under HTSUS subheadings 7403.21.0000, 7407.21.3000, and 7407.21.5000. The HTSUS subheadings and UNS alloy designations are provided for convenience and customs purposes. The written description of the scope of the investigations is dispositive.

Appendix II

List of Topics Discussed in the Issues and Decision Memorandum

I. Summary

II. Background

III. Period of Investigation

IV. Scope of the Investigation

V. Changes Since the Preliminary Determination

VI. Affiliation/Single Entity

VII. Discussion of the Issues

Booyoung Industry (BYI) Issues

Comment 1: Whether to Adjust BYI's Reported Costs for the Value of Brass Scrap Obtained as Partial Payment for Brass Rod Sales to Domestic Customers

Comment 2: Whether to Apply the Cost Verification Adjustments to BYI's Reported Costs

Comment 3: Whether BYI Failed to Report Accurate Home Market Gross Unit Prices

Comment 4: Whether Commerce Should Apply Partial Adverse Facts Available to BYI's Sales Purchases of Drawn Brass Rod Products Purchased from an Unaffiliated Supplier

Daechang Co., Ltd. (Daechang) Issues

Comment 5: Whether to Exclude Selling Expenses from Daechang's General and Administrative Expense Ratio

Comment 6: Whether to Limit Daechang's Freight Revenue Cap to Revenue Earned for Ocean Freight

Comment 7: Whether to Revise Certain Per-Unit Packing Expenses

Comment 8: Whether to Use the Revised Sales Databases That Reflect the Sales Verification Minor Corrections

VIII. Recommendation

[FR Doc. 2024-08456 Filed 4-19-24; 8:45 am]

BILLING CODE 3510-DS-P